DEPARTMENT OF EDUCATION

Special Education Parent Information Centers—Parent Training and Information Centers

AGENCY: Office of Special Education and Rehabilitative Services, Department of Education.

ACTION: Notice.

SUMMARY: The Department of Education (Department) is issuing a notice inviting applications for new awards for fiscal year (FY) 2025 for Special Education Parent Information Centers—Parent Training and Information Centers (PTIs).

DATES:

Applications Available: December 16, 2024.

Application Deadline: March 3, 2025.

Deadline for Intergovernmental Review: April 30, 2025.

Pre-Application Webinar Information: The Office of Special Education Programs and Rehabilitative Services will record a pre-application webinar for this competition, available at www.ed.gov/about/ed-offices/osers/osep/new-osep-grant-competitions, within five days after publication of this notice. In addition, applicants may view information on this competition at www.ed.gov/about/ed-offices/osers/osep/new-osep-grant-competitions.

ADDRESSES: For the addresses for obtaining and submitting an application, please refer to the Application Submission Instructions section.

FOR FURTHER INFORMATION CONTACT: Carmen Sanchez, U.S. Department of Education, 400 Maryland Avenue SW, Washington, DC 20202. Telephone: (202) 987-0117. Email: Carmen.Sanchez@ed.gov.

If you are deaf, hard of hearing, or have a speech disability and wish to access telecommunications relay services, please dial 7-1-1.

SUPPLEMENTARY INFORMATION:

Full Text of Announcement

Funding Opportunity Description

Purpose of Program: The purpose of the Special Education Parent Information Centers program is to ensure that parents of children with disabilities receive high-quality, relevant, and useful training and information to help improve outcomes for their children.

Assistance Listing Number (ALN): 84.328M.

OMB Control Number: 1820-0028.

Eligible Applicants: Parent organizations.

Note: Section 671(a)(2) of the Individuals with Disabilities Education Act (IDEA) defines a “parent organization” as a private nonprofit organization ¹ (other than an institution of higher education (IHE)) that—

¹ If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

(a) Has a board of directors—

(1) The majority of whom are parents of children with disabilities ages birth through 26;

(2) That includes—

(i) Individuals working in the fields of special education, related services, and early intervention; and

(ii) Individuals with disabilities; and

(3) The parent and professional members of which are broadly representative of the population to be served, including low-income parents and parents of limited English proficient children; and

(b) Has as its mission serving families of children with disabilities who are ages birth through 26 and have the full range of disabilities described in section 602(3) of IDEA.

Type of Award: Discretionary grants.

Estimated Available Funds: The Administration has requested $33,152,000 for awards for the Special Education Parent Information Centers program for FY 2025, of which we intend to use an estimated $25,800,000 for this competition. The actual level of funding, if any, depends on final congressional action. However, we are inviting applications to allow enough time to complete the grant process if Congress appropriates funds for this program.

Information on funding amounts for individual States is in the “Maximum Award” column of the table in this section.

The Department considered population distribution, poverty rates, and low-density enrollment when determining the award amounts for grants under this competition. For the States listed in the funding table, one award may be made for up to the amounts listed in the table to a qualified applicant for a PTI to serve the entire State.

Maximum Award: See table. We will not make an award exceeding the corresponding amount shown in the table for each State or region within a State for a single budget period of 12 months.

Applications for one five-year award will be accepted to serve the area in the Pacific comprised of American Samoa, Guam, the Commonwealth of the Northern Mariana Islands, and the Freely Associated States consisting of the Federated States of Micronesia, the Republic of the Marshall Islands, and the Republic of Palau.

Estimated Number of Awards: 64. Based on the quality of applications received, the Department intends to fund one PTI in each of the States and regions listed below.

Note: The Department is not bound by any estimates in this notice.

Project Period: Up to 60 months.

State/region | Maximum annual award
Alabama | $374,214
Alaska | 250,000
Arizona | 484,600
Arkansas | 250,000
California:
CA Region 1 | 605,344
CA Region 2 | 751,877
CA Region 3 | 350,371
CA Region 4 | 463,005
CA Region 5 | 335,221
Colorado | 367,386
Connecticut | 250,000
Delaware | 250,000
District of Columbia | 250,000
Florida:
FL Region 1 | 351,158
FL Region 2 | 325,620
FL Region 3 | 608,398
Georgia | 775,872
Hawaii | 250,000
Idaho | 250,000
Illinois | 819,598
Indiana | 493,168
Iowa | 250,000
Kansas | 250,000
Kentucky | 330,002
Louisiana | 340,291
Maine | 250,000
Maryland | 385,237
Massachusetts | 418,977
Michigan | 677,073
Minnesota | 386,724
Mississippi | 250,000
Missouri | 428,497
Montana | 250,000
Nebraska | 250,000
Nevada | 250,000
New Hampshire | 250,000
New Jersey | 563,367
New Mexico | 250,000
New York:
NY Region 1 | 698,920
NY Region 2 | 544,158
North Carolina | 733,745
North Dakota | 250,000
Ohio | 798,050
Oklahoma | 307,681
Oregon | 259,817
Pacific | 250,000
Pennsylvania | 824,315
Puerto Rico | 250,000
Rhode Island | 250,000
South Carolina | 357,394
South Dakota | 250,000
Tennessee | 489,171
Texas:
TX Region 1 | 543,245
TX Region 2 | 310,371
TX Region 3 | 704,460
TX Region 4 | 695,054
U.S. Virgin Islands | 175,000
Utah | 269,725
Vermont | 250,000
Virginia | 571,252
Washington | 484,832
West Virginia | 250,000
Wisconsin | 396,810
Wyoming | 250,000

Applications for five-year awards will also be accepted to serve regions in the following States:

California—

Region 1—Los Angeles county;

Region 2—Imperial, Orange, Riverside, San Bernardino, and San Diego counties;

Region 3—Fresno, Inyo, Kern, Kings, Madera, Mariposa, Merced, Mono, San Luis Obispo, Santa Barbara, Tulare, and Ventura counties;

Region 4—Alameda, Contra Costa, Marin, Monterey, Napa, San Benito, San Francisco, San Mateo, Santa Clara, Santa Cruz, Solano, and Sonoma counties; and

Region 5—Alpine, Amador, Butte, Calaveras, Colusa, Del Norte, El Dorado, Glenn, Humboldt, Lake, Lassen, Mendocino, Modoc, Nevada, Placer, Plumas, Sacramento, San Joaquin, Shasta, Sierra, Siskiyou, Stanislaus, Sutter, Tehama, Trinity, Tuolumne, Yolo, and Yuba counties.

Florida—

Region 1—Alachua, Baker, Bay, Bradford, Brevard, Calhoun, Clay, Columbia, Dixie, Duval, Escambia, Flagler, Franklin, Gadsden, Gilchrist, Gulf, Hamilton, Holmes, Jackson, Jefferson, Lafayette, Leon, Levy, Liberty, Madison, Marion, Nassau, Okaloosa, Putnam, Santa Rosa, Seminole, St. Johns, Suwannee, Taylor, Union, Volusia, Wakulla, Walton, and Washington counties;

Region 2—Charlotte, Citrus, Collier, DeSoto, Glades, Hardee, Hendry, Hernando, Highlands, Hillsborough, Lee, Manatee, Pasco, Pinellas, Sarasota, and Sumter counties; and

Region 3—Broward, Indian River, Lake, Martin, Miami-Dade, Monroe, Okeechobee, Orange, Osceola, Palm Beach, Polk, and St. Lucie counties.

New York—

Region 1—Bronx, Kings, Nassau, New York, Queens, Richmond, and Suffolk counties; and

Region 2—The rest of the State of New York.

Texas—

Region 1—Atascosa, Bandera, Bastrop, Bexar, Blanco, Burnet, Caldwell, Cameron, Comal, Dimmit, Fayette, Frio, Gillespie, Gonzales, Guadalupe, Hays, Hidalgo, Jim Hogg, Kendall, Kerr, Kinney, La Salle, Lee, Llano, Maverick, Medina, Real, Starr, Travis, Uvalde, Webb, Willacy, Williamson, Wilson, Zapata, and Zavala counties;

Region 2—Andrews, Archer, Armstrong, Bailey, Baylor, Bell, Borden, Bosque, Brewster, Briscoe, Brown, Callahan, Carson, Castro, Childress, Clay, Cochran, Coke, Coleman, Collingsworth, Comanche, Concho, Coryell, Cottle, Crane, Crockett, Crosby, Culberson, Dallam, Dawson, Deaf Smith, Dickens, Donley, Eastland, Ector, Edwards, El Paso, Falls, Fisher, Floyd, Foard, Freestone, Gaines, Garza, Glasscock, Gray, Hale, Hall, Hamilton, Hansford, Hardeman, Hartley, Haskell, Hemphill, Hill, Hockley, Howard, Hudspeth, Hutchinson, Irion, Jack, Jeff Davis, Jones, Kent, Kimble, King, Knox, Loving, Lamb, Lampasas, Limestone, Lipscomb, Lubbock, Lynn, Martin, Mason, McCulloch, McLennan, Menard, Midland, Mills, Mitchell, Montague, Moore, Motley, Navarro, Nolan, Ochiltree, Oldham, Parmer, Pecos, Potter, Presidio, Randall, Reagan, Reeves, Roberts, Runnels, San Saba, Schleicher, Scurry, Shackelford, Sherman, Stephens, Sterling, Stonewall, Sutton, Swisher, Taylor, Terrell, Terry, Throckmorton, Tom Green, Upton, Val Verde, Ward, Wheeler, Wichita, Wilbarger, Winkler, Yoakum, and Young counties;

Region 3—Anderson, Angelina, Bowie, Camp, Cass, Cherokee, Collin, Cooke, Dallas, Delta, Denton, Ellis, Erath, Fannin, Franklin, Grayson, Gregg, Harrison, Henderson, Hood, Hopkins, Hunt, Johnson, Kaufman, Lamar, Marion, Morris, Nacogdoches, Palo Pinto, Panola, Parker, Rains, Red River, Rockwall, Rusk, Sabine, San Augustine, Shelby, Smith, Somervell, Tarrant, Titus, Upshur, Van Zandt, Wise, and Wood counties; and

Region 4—Aransas, Austin, Bee, Brazoria, Brazos, Brooks, Burleson, Calhoun, Chambers, Colorado, DeWitt, Duval, Fort Bend, Galveston, Goliad, Grimes, Hardin, Harris, Houston, Jackson, Jasper, Jefferson, Jim Wells, Karnes, Kenedy, Kleberg, Lavaca, Leon, Liberty, Live Oak, Madison, Matagorda, McMullen, Milam, Montgomery, Newton, Nueces, Orange, Polk, Refugio, Robertson, San Jacinto, San Patricio, Trinity, Tyler, Victoria, Walker, Waller, Washington, and Wharton counties.

Background:

Family engagement is vital to student success and children's development. To support families of children with disabilities, and youth with disabilities, as they navigate complex systems to obtain educational and developmental opportunities children and youth with disabilities need to thrive, the Department funds PTIs. This competition will fund 64 PTIs designed to meet the information, training, and support needs of parents of children with disabilities and youth with disabilities.

PTIs help families of children with disabilities have meaningful opportunities to participate in the education of their children. This is done through individualized assistance, training, and resources that help parents work with schools, providers, and educational systems to meet the unique needs of their children. PTIs also help youth develop their ability to advocate for their needs through individual assistance, training, and resources.

PTIs provide support to increase parents' knowledge of evidence-based practices, expand their capacity to help their children improve their educational and developmental outcomes, and develop their ability to be involved in school reform initiatives. PTIs help youth understand their rights and responsibilities and learn self-advocacy skills to lead as productive and independent lives as possible.

Absolute Priority: For FY 2025 this priority is an absolute priority. The absolute priority is from the allowable activities in, or otherwise authorized under, the statute.² We consider only applications that meet this priority.

² See sections 671 and 681(d) of IDEA; 20 U.S.C. 1471 and 1481.

An applicant may apply only once under the priority, except an applicant may apply for multiple regional centers within a single State and must submit a separate application for each region. For example, an applicant submitting for multiple regions within Texas must submit separate applications for each region.

Priority:

Programmatic Requirements

At a minimum, the PTIs must increase—(a) parents' ³ capacity to help their children ⁴ improve their early learning, school-aged, and postsecondary outcomes; (b) parents' knowledge of educational and early learning best practices; and (c) youth's ⁵ capacity to be effective self-advocates.

³ For the purpose of this priority, “parents” means the parents of children with disabilities.

⁴ For the purpose of this priority, “children with disabilities” means infants, toddlers, children, and youth (ages birth through 26) with the full range of disabilities.

⁵ For the purpose of this priority, “youth” means youth with disabilities.

In addition to these programmatic requirements, to be considered for funding under this priority, applicants must meet the following requirements:

Application Requirements

(a) In the narrative section of the application under “Significance”—

(1) Present information on the needs of all parents and youth in the State or region, including but not limited to those who are underserved, low-income, or with limited English proficiency, parents with disabilities, incarcerated youth, and youth in foster care; and

(2) Demonstrate how the proposed project will address the needs of all parents and youth in the State or region by providing high-quality services that—

(i) Increase parents' capacity to support their children's development, learning, and transitions;

(ii) Increase youth's capacity to be effective self-advocates; and

(iii) Are informed by knowledge of—

(A) Best practices in providing training and information to parents and youth, and outreach and family-centered services;

(B) Relevant and current education practices and policy initiatives; and

(C) How to identify and work with appropriate State and local partners that serve children, families,⁶ and youth.

⁶ For the purpose of this priority, “families” means families of children with disabilities.

(b) Demonstrate, in the narrative section of the application under “Quality of project services,” how the proposed project will—

(1) Use a project logic model (as defined in 34 CFR 77.1) to guide the development of project plans and activities within its State or region;

(2) Develop and implement an outreach plan to inform all parents and youth of how they can benefit from the PTI's services including, but not limited to, those who are underserved, low-income, or with limited English proficiency, parents with disabilities, incarcerated youth, and youth in foster care;

(3) Provide high-quality services that increase parents' knowledge of—

(i) The nature of their children's disabilities, strengths, and challenges;

(ii) The importance of having high expectations for their children and the early intervention and education practices that help children meet those expectations;

(iii) The local, State, and Federal resources available to assist them and strengthen their connection to their communities;

(iv) IDEA, Federal IDEA regulations, and State regulations, policies, and practices implementing IDEA, including their rights and responsibilities, procedural safeguards, and dispute resolution processes, how to participate on Individualized Family Service Plan and Individualized Education Program teams, and how services are provided;

(v) The Rehabilitation Act (including section 504), the Workforce Innovation and Opportunity Act (WIOA), the Americans with Disabilities Act (ADA), and other relevant educational and health care legislation, regulations, and policies that affect people with disabilities, including their rights and responsibilities, procedural safeguards, and dispute resolution processes;

(vi) Transition services, at all levels, and available supports for re-entry of incarcerated youth to school and the community;

(vii) How their children can have access to the general education curriculum, inclusive early learning programs, academic standards and assessments, extracurricular and enrichment opportunities, and other initiatives available to all children; and

(viii) School reform efforts to improve student achievement and increase graduation rates;

(4) Provide high-quality services that increase parents' capacity to effectively—

(i) Support their children and participate in their children's education;

(ii) Communicate and work collaboratively in partnership with the professionals working with their children;

(iii) Resolve disputes; and

(iv) Participate in school reform activities to improve outcomes for all children;

(5) Provide high-quality services that increase youth's knowledge of—

(i) The nature of their disabilities, strengths, and challenges;

(ii) The importance of having high expectations for themselves and the practices that help them meet those expectations;

(iii) The resources available to support their success in education, employment, and their communities;

(iv) IDEA, the Rehabilitation Act (including Section 504), the WIOA, the ADA, and other legislation, regulations, and policies that affect people with disabilities;

(v) Their rights and responsibilities while receiving services under IDEA, the Rehabilitation Act, and the WIOA, and after transitioning to post-school life under Section 504 and the ADA;

(vi) How they can participate on teams that support them; and

(vii) How to engage in supported decision making necessary to transition to adult life;

(6) Provide high-quality services that increase youth's capacity to communicate and collaborate with providers and others, and make informed decisions and advocate for themselves;

(7) Use best practices and various methods to deliver services;

(8) Establish cooperative partnerships with Community Parent Resource Centers (ALN 84.328C) and other PTIs funded in the State or region;

(9) Establish cooperative partnerships with the Parent Information and Training Centers funded under the Rehabilitation Act (ALN 84.235F) in the Regional Parent Technical Assistance Center's (Regional PTAC's)(ALN 84.328R) region to which they belong, and the Center for Parent Information and Resources (CPIR)(ALN 84.328R); and

(10) Network with local, State, and national organizations and agencies that serve parents and families.

(c) In the narrative section of the application under “Quality of the project evaluation or other evidence-building,” include an evaluation plan for the project. The evaluation plan must describe measures for evaluating the quality and reach of project services; progress in implementing project services; the outcomes of the project's activities; and the extent to which the project meets the goals described in the logic model.

(d) Demonstrate, in the narrative section of the application under “Quality of project personnel and adequacy of resources,” how—

(1) The applicant and partners have adequate resources to carry out the proposed activities;

(2) The costs are reasonable in relation to the anticipated results and benefits;

(3) The project will encourage applications for employment from persons who are members of groups that have historically encountered barriers, or who have professional or personal experiences with barriers, based on one or more of the following: economic disadvantage; gender; race; ethnicity; color; national origin; disability; age; language; migration; living in a rural location; experiencing homelessness or housing insecurity; involvement with the justice system; pregnancy, parenting, or caregiver status; and sexual orientation; and

(4) The key project personnel, consultants, and subcontractors have the qualifications and experience to carry out the proposed activities and achieve intended outcomes.

(e) Demonstrate, in the narrative section of the application under “Quality of the management plan,” how—

(1) The management plan contains clearly defined responsibilities of staff, consultants, and contractors, and project timelines to ensure that the project's intended outcomes will be achieved on time and within budget;

(2) Key project personnel, consultants, and subcontractors are appropriately allocated to the project;

(3) The management plan will ensure that services provided are of high quality, relevant, and useful to recipients;

(4) The applicant will use its board of directors to provide appropriate oversight to the project;

(5) The project will benefit from a diversity of perspectives in its development and operation;

(6) Accurate and timely annual performance reports submitted to the Department will include at a minimum the number and demographics of parents and youth who received PTI services, the unique needs of those parents and youth, the levels of services provided, and information on the project's outputs and outcomes; and

(7) The project management and staff will use the technical assistance (TA) available from the Office of Special Education Programs (OSEP)-funded Technical Assistance and Dissemination network, their Regional PTAC and the CPIR, and collaborate with the Regional PTAC in facilitating at least one site visit and developing individualized TA plans as needed.

(f) Address the following application requirements. The applicant must—

(1) Include, in appendix A, a logic model for the project;

(2) Include, in appendix A, any applicable personnel-loading charts and timelines to illustrate the management plan;

(3) Include, in the budget, travel funds to support the project director's annual attendance at one meeting sponsored by OSEP and one meeting sponsored by the Regional PTACs, at a minimum; and

(4) Provide an assurance that it will maintain a website that meets government or industry-recognized standards for accessibility and meets the needs of the parents and youth in the State or region.

Selection Criteria: The selection criteria for this competition are from 34 CFR 75.210 and are as follows:

(a) Significance. (15 points).

(1) The Secretary considers the significance of the proposed project.

(2) In determining the significance of the proposed project, the Secretary considers the following factors:

(i) The extent to which the proposed project will provide support, resources, or services; or otherwise address the needs of the target population, including addressing the needs of underserved populations most affected by the issue, challenge, or opportunity, to be addressed by the proposed project and close gaps in educational opportunity.

(ii) The likely utility of the resources (such as materials, processes, techniques, or data infrastructure) that will result from the proposed project, including the potential for effective use in a variety of conditions, populations, or settings.

(iii) The extent to which the proposed project is likely to build local, State, regional, or national capacity to provide, improve, sustain, or expand training or services that address the needs of underserved populations.

(b) Quality of project services. (35 points)

(1) The Secretary considers the quality of the services to be provided by the proposed project.

(2) In determining the quality of the services to be provided by the proposed project, the Secretary considers the quality and sufficiency of strategies for ensuring equitable and adequate access and participation for project participants who experience barriers based on one or more of the following: economic disadvantage; gender; race; ethnicity; color; national origin; disability; age; language; migration; living in a rural location; experiencing homelessness or housing insecurity; involvement with the justice system; pregnancy, parenting, or caregiver status; and sexual orientation. This determination includes the steps developed and described in the form Equity For Students, Teachers, And Other Program Beneficiaries (OMB Control No. 1894-0005) (section 427 of the General Education Provisions Act (20 U.S.C. 1228a)).

(3) In addition, the Secretary considers the following factors:

(i) The extent to which the proposed project demonstrates a rationale that is aligned with the purposes of the grant program.

(ii) The likely benefit to the intended recipients, as indicated by the logic model or other conceptual framework, of the services to be provided.

(iii) The extent to which the goals, objectives, and outcomes to be achieved by the proposed project are clearly specified, measurable, and ambitious yet achievable within the project period, and aligned with the purposes of the grant program.

(iv) The extent to which the services to be provided by the proposed project were determined with input from the community to be served to ensure that they are appropriate and responsive to the needs of the intended recipients or beneficiaries, including underserved populations, of those services.

(v) The extent to which the proposed project is informed by similar past projects implemented by the applicant with demonstrated results.

(vi) The extent to which the proposed project will include coordination with other Federal investments, as well as appropriate agencies and organizations providing similar services to the target population.

(vii) The extent to which the services to be provided by the proposed project involve the use of efficient strategies, including the use of technology, as appropriate, and the leveraging of non-project resources.

(c) Quality of the project evaluation or other evidence-building. (15 points)

(1) The Secretary considers the quality of the evaluation or other evidence-building of the proposed project.

(2) In determining the quality of the evaluation or other evidence-building, the Secretary considers the following factors:

(i) The extent to which the methods of evaluation or other evidence-building are appropriate to the context within which the project operates and the target population of the proposed project.

(ii) The extent to which the methods of evaluation or other evidence-building will provide performance feedback and provide formative, diagnostic, or interim data that is a periodic assessment of progress toward achieving intended outcomes.

(iii) The extent to which the proposed project proposes specific, measurable targets, connected to strategies, activities, resources, outputs, and outcomes, and uses reliable administrative data to measure progress and inform continuous improvement.

(d) Quality of the project personnel and adequacy of resources. (20 points)

(1) The Secretary considers the quality of the personnel who will carry out the proposed project and the adequacy of resources for the proposed project.

(2) In determining the quality of project personnel, the Secretary considers the extent to which the applicant demonstrates that it has project personnel or a plan for hiring of personnel who are members of groups that have historically encountered barriers, or who have professional or personal experiences with barriers, based on one or more of the following: economic disadvantage; gender; race; ethnicity; color; national origin; disability; age; language; migration; living in a rural location; experiencing homelessness or housing insecurity; involvement with the justice system; pregnancy, parenting, or caregiver status; and sexual orientation.

(3) In determining the quality of personnel and the adequacy of resources for the proposed project, the Secretary considers the following factors:

(i) The extent to which the project director or principal investigator, when hired, has the qualifications required for the project, including formal training or work experience in fields related to the objectives of the project and experience in designing, managing, or implementing similar projects for the target population to be served by the project.

(ii) The extent to which the key personnel in the project, when hired, have the qualifications required for the proposed project, including formal training or work experience in fields related to the objectives of the project, and represent or have lived experiences of the target population.

(iii) The adequacy of support for the project, including facilities, equipment, supplies, and other resources, from the applicant or the lead applicant organization.

(iv) The extent to which the costs are reasonable in relation to the number of persons to be served, the depth and intensity of services, and the anticipated results and benefits.

(e) Quality of the management plan. (15 points)

(1) The Secretary considers the quality of the management plan for the proposed project.

(2) In determining the quality of the management plan for the proposed project, the Secretary considers the following factors:

(i) The feasibility of the management plan to achieve project objectives and goals on time and within budget, including clearly defined responsibilities, timelines, and milestones for accomplishing project tasks.

(ii) The adequacy of mechanisms for ensuring high-quality and accessible products and services from the proposed project for the target population.

(iii) The extent to which the time commitments of the project director and principal investigator and other key project personnel are appropriate and adequate to meet the objectives of the proposed project.

Performance Measures:

For the purposes of Department reporting under 34 CFR 75.110, the Department has established a set of performance measures that are designed to yield information on various aspects of the effectiveness and quality of the Special Education Parent Information Centers program. These measures are:

• Program Performance Measure 1: The percentage of materials used by projects that are deemed to be of high quality;

• Program Performance Measure 2: The percentage of products and services deemed to be of high relevance to educational and early intervention policy and practice; and

• Program Performance Measure 3: The percentage of all products and services deemed to be useful to improve educational or early intervention policy or practice. Waiver of Proposed Rulemaking: Under the Administrative Procedure Act (5 U.S.C. 553), the Department generally offers interested parties the opportunity to comment on proposed priorities and requirements. Section 681(d) of IDEA, however, makes the public comment requirements of the APA inapplicable to the priority in this notice.

Program Authority: 20 U.S.C. 1471 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474.

Note: As of October 1, 2024, grant applicants must follow the provisions stated in the OMB Guidance for Federal Financial Assistance (89 FR 30046, April 22, 2024) when preparing an application. For more information about these regulations please visit: www.cfo.gov/resources-coffa/uniform-guidance/.

Cost Sharing or Matching: This program does not require cost sharing or matching.

Indirect Cost Rate Information: This program uses an unrestricted indirect cost rate. For more information regarding indirect costs, or to obtain a negotiated indirect cost rate, please see www.ed.gov/about/ed-offices/ofo.

Administrative Cost Limitation: This program does not include any program-specific limitation on administrative expenses.

Subgrantees: A grantee under this competition may award subgrants—to directly carry out project activities described in its application—to the following types of entities: IHEs and private nonprofit organizations suitable to carry out the activities proposed in the application.

The grantee may award subgrants to entities it has identified in an approved application.

Other General Requirements:

1. Recipients of funding under this program must make positive efforts to employ and advance in employment qualified individuals with disabilities (see section 606 of IDEA).

2. Each applicant for, and recipient of, funding under this program must involve individuals with disabilities, or parents of individuals with disabilities ages birth through 26, in planning, implementing, and evaluating the project (see section 682(a)(1)(A) of IDEA).

Application and Submission Information:

1. Application Submission Instructions: Applicants are required to follow the Common Instructions for Applicants to Department of Education Discretionary Grant Programs (87 FR 75045, December 7, 2022).

2. Intergovernmental Review: This competition is subject to intergovernmental review under Executive Order 12372. Information about this process is in the application package.

3. Recommended Page Limit: The application narrative is where you, the applicant, address the selection criteria that reviewers use to evaluate your application. We recommend that you (1) limit the application narrative to no more than 50 pages and (2) use the following standards:

• A “page” is 8.5″ x 11″, on one side only, with 1” margins at the top, bottom, and both sides.

• Double space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

4. Review and Selection Process: We remind potential applicants that in reviewing applications in any discretionary grant competition, the Secretary may consider the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department.

5. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

6. Risk Assessment and Specific Conditions: Before awarding grants under this competition, the Department conducts a review of the risks posed by applicants. The Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

7. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

If the total value of your currently active grants, cooperative agreements, and procurement contracts from the Federal Government exceeds $10,000,000, the reporting requirements in 2 CFR part 200, appendix XII, require you to report certain integrity information to FAPIIS semiannually. Please review these requirements if this grant plus all the other Federal funds you receive exceed $10,000,000.

Award Administration Information:

1. Award Notices: If your application is successful, we notify your U.S. Representative and U.S. Senators and send you a Grant Award Notification (GAN), or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements should you receive funding under the competition. This does not apply if you have an exception.

(b) At the end of your project period, you must submit a final performance report, including financial information, as directed by the Secretary. If you receive a multiyear award, you must submit an annual performance report that provides the most current performance and financial expenditure information as directed by the Secretary. The Secretary may also require more frequent performance reports. For specific requirements on reporting, please go to www.ed.gov/fund/grant/apply/appforms/appforms.html.

(c) The Secretary may provide a grantee with additional funding for data collection analysis and reporting. In this case the Secretary establishes a data collection period.

5. Continuation Awards: In making a continuation award, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Glenna Wright-Gallo,
Assistant Secretary for Special Education and Rehabilitative Services.

[FR Doc. 2024-29530 Filed 12-13-24; 8:45 am]

BILLING CODE 4000-01-P